DEPARTMENT OF DEFENSE

Department of the Air Force

Notice is Given of the Names of Members of the Performance Review Board for the Department of the Air Force

AGENCY: Department of the Air Force, Department of Defense.

ACTION: Notice.

SUMMARY: Notice is given of the names of members of the 2022 Performance Review Board for the Department of the Air Force.

FOR FURTHER INFORMATION CONTACT: Please direct any written comments or requests for information to Mr. Christopher Whitener, Air Force Civilian Senior Executive Management Office, SAF/MRL, 1660 Air Force Pentagon, Washington, DC, 20330-1040, (PH: 703-695-7323; or via email at christopher.whitener@us.af.mil).

SUPPLEMENTARY INFORMATION: Pursuant to 5 U.S.C. 4314(c) (1-5), the Department of the Air Force announces the appointment of members to the Air Force's Senior Executive Service Performance Review Board. Appointments are made by the authorizing official. Each board member shall review and evaluate performance scores provided by the Senior Executive's rater/immediate supervisor. Performance standards must be applied consistently across the Air Force. The board will make final recommendations to the authorizing official relative to the performance of the executive.

The members of the 2022 Performance Review Board for the Air Force are:

1. Honorable Alex Wagner (Chair), Assistant Secretary of the Air Force for Manpower and Reserve Affairs

2. General Duke Richardson (Vice Chair), Commander for Air Force Materiel Command Commander

3. General David Allvin, Vice Chief of Staff of the Air Force

4. General David Thompson, Vice Chief of Space Operations for U.S. Space Force

5. Major General Brook Leonard, Chief of Staff for U.S. Space Command

6. Mr. John Fedrigo, Principal Deputy Assistant Secretary of the Air Force for Manpower and Reserve Affairs

7. Mr. Anthony Reardon, Administrative Assistant to the Secretary of the Air Force

8. Ms. Gwendolyn DeFilippi, Assistant Deputy Chief of Staff for Manpower, Personnel and Services

9. Ms. Katharine Kelley, Deputy Chief of Space Operations for Human Capital, U.S. Space Force

10. Ms. Darlene Costello, Principal Deputy Assistant Secretary of the Air Force Acquisition, Technology & Logistics

11. Mr. Steven Herrera, Principal Deputy Assistant Secretary of the Air Force for Financial Management and Comptroller

12. Ms. Lorna Estep, Executive Director, Air Force Materiel Command

13. Mr. Craig Smith, Principal Deputy General Counsel of the Air Force

14. Mr. John Salvatori, Director, Concepts, Development, and Management Office

15. Ms. Shannon McGuire (Legal Advisor), Deputy General Counsel for Fiscal Ethics and Administrative Law

16. Mr. Richard Desmond (Legal Advisor), Associate General Counsel of the Air Force

17. Ms. Laura Megan-Posch (Legal Advisor), Associate General Counsel of the Air Force

The following Tier 3 Career SES members will serve as alternates:

1. Mr. Douglas Bennett, Auditor General of the Air Force

2. Mr. Richard Lombardi, Deputy Chief Management Officer

3. Ms. Kelli Seybolt, Deputy Under Secretary of the Air Force, International Affairs

4. Mr. Daniel Fri, Assistant Deputy Chief of Staff, Logistics, Engineering and Force Protection

5. Mr. Douglas Sanders, Deputy Administrative Assistant to the Secretary of the Air Force

6. Mr. Thomas Lawhead, Assistant Deputy Chief of Staff, Strategy Integration and Requirements

7. Mr. Michael Shoults, Assistant Deputy Chief of Staff for Strategic Deterrence and Nuclear Integration

8. Mr. Edwin Oshiba, Acting Assistant Secretary of the Air Force for Installations, Environment and Energy

9. Ms. Lauren Knausenberger, Chief Information Officer

10. Mr. Joseph McDade, Assistant Deputy Chief of Staff for Strategic Plans and Programs

11. Mr. Rowayne Schatz Jr., Director for Studies and Analysis, Office of the Secretary of the Air Force

12. Ms. Lisa Costa, Deputy Chief of Space Operations for Technology and Innovation

13. Ms. Wanda Jones-Heath, Principal Cyber Advisor

14. Ms. Jennifer Miller, Director of Staff, Office of the Secretary of the Air Force

15. Mr. Andrew Cox, Director for Space Protection Program Office

16. Ms. Marianne Malizia, Director for Office of Diversity and Inclusion

Adriane Paris,
Air Force Federal Register Liaison Officer.

[FR Doc. 2022-25121 Filed 11-17-22; 8:45 am]

BILLING CODE 5001-10-P